DEPARTMENT OF AGRICULTURE

Agricultural Marketing Service

[Document Number AMS-TM-21-0034]

Supply Chains for the Production of Agricultural Commodities and Food Products

AGENCY: Agricultural Marketing Service, USDA.

ACTION: Notice; 30-day extension for public comments.

SUMMARY: The Agricultural Marketing Service (AMS) is providing an additional 30 days for public comments on the Notice on Supply Chains for the Production of Agricultural Commodities and Food Products published on April 21, 2021. During the first two weeks of the comment period, AMS received requests from stakeholders and organizations for additional time to provide thoughtful and thorough feedback to this request. Requests were received from representatives of critical supply chain activities whose comments would be of great value to the U.S. Department of Agriculture (USDA) in preparing the report required by the Executive Order on “America's Supply Chains.”

DATES: Comments on the notice published April 21, 2021, must be received by June 21, 2021.

ADDRESSES: All written comments in response to this notice should be posted online at www.regulations.gov. Comments received will be posted without change, including any personal information provided. All comments should reference the docket number AMS-TM-21-0034, the date of submission, and the page number of this issue of the Federal Register. Comments may also be sent to Dr. Melissa R. Bailey, Agricultural Marketing Service, USDA, Room 2055-S, STOP 0201, 1400 Independence Avenue SW, Washington, DC 20250-0201. Comments will be made available for public inspection at the above address during regular business hours or via the internet at www.regulations.gov.

FOR FURTHER INFORMATION CONTACT: Dr. Melissa R. Bailey, Agricultural Marketing Service, at (202) 205-9356; or by email at melissa.bailey@usda.gov.

SUPPLEMENTARY INFORMATION:

Background

On February 24, 2021, President Biden issued Executive Order 14017, “America's Supply Chains” (86 FR 11849) (E.O. 14017). E.O. 14017 focuses on the need for resilient, diverse, and secure supply chains to ensure U.S. economic prosperity and national security. Such supply chains are needed to address conditions that can reduce critical manufacturing capacity and the availability and integrity of critical goods, products, and services. In relevant part, E.O. 14017 directs that, within one year, the Secretary shall submit a report to the President, through the Assistant to the President for National Security Affairs (APNSA) and the Assistant to the President for Economic Policy (APEP), on the supply chains for the production of agricultural commodities and food products. This notice requests comments and information from the public to assist USDA in preparing the report required by E.O. 14017. Further, USDA will use public comments received through this notice to inform our thinking regarding how available authorities and funding related to food supply chain resilience can help to increase durability and resilience within the U.S. food supply. We are particularly interested in comments addressing local and regional food systems, creating new market opportunities (including for value-added agriculture and value-added products), facilitating fair and competitive markets (including traceability and supply chain transparency), advancing efforts to transform the food system, meeting the needs of the agricultural workforce, supporting and promoting consumers' nutrition security, particularly for low-income populations, and supporting the needs of socially disadvantaged and small to mid-sized producers and processors.

Extension of Comment Period Deadline

This document notifies the public that AMS is extending the comment period on the Notice on Supply Chains for the Production of Agricultural Commodities and Food Products, 86 FR 20652 (Apr. 21, 2021) from May 21, 2021 to June 21, 2021. Comments previously submitted during the initial 30-day comment period [April 21, 2021-May 21, 2021] need not be resubmitted, as these comments are already incorporated into the public record.

Erin Morris,
Associate Administrator, Agricultural Marketing Service.

[FR Doc. 2021-10351 Filed 5-14-21; 8:45 am]

BILLING CODE 3410-02-P